DEPARTMENT OF COMMERCE

International Trade Administration

University of Colorado, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave, NW., Washington, DC.

Docket Number: 10-034. Applicant: University of Colorado, Aurora, CO 80045. Instrument: Singer MSM System 300TSA. Manufacturer: Singer Instrument Co., Ltd., United Kingdom. Intended Use: See notice at 76 FR 11200, March 1, 2011. Comments: None received. Decision: Approved. Reasons: This instrument is unique because it has a motorized stage, which can be programmed to automatically move to predetermined positions, and the joystick electronic. We know of no instruments of equivalent scientific value to the foreign instruments described below, for such purposes as this is intended to be used, that was being manufactured in the United States at the time of its order.

Docket Number: 10-077. Applicant: University of Chicago LLC, Lemont, IL 60439. Instrument: Batch Furnace. Manufacturer: NGK Insulators Ltd., Japan. Intended Use: See notice at 76 FR 11200, March 1, 2011. Comments: None received. Decision: Approved. Reasons: This batch furnace includes high distribution of the sample (multiple trays), which allows for faster drying and greater uniformity than a conventional furnace. This batch furnace also has an oxygen control system that has a 10kg batch size. We know of no instruments of equivalent scientific value to the foreign instruments described below, for such purposes as this is intended to be used, that was being manufactured in the United States at the time of its order.

Docket Number: 11-001. Applicant: Michigan State University, East Lansing, MI 48824-1226. Instrument: Diode Pumped High Speed Nd: YAG laser system. Manufacturer: Edgewave GmbH, Germany. Intended Use: See notice at 76 FR 11200, March 1, 2011. Comments: None received. Decision: Approved. Reasons: The main feature of the laser, which is particularly suited for the necessary application, is the beam profile (M²<2) and energy stability over lengthy operation times, which is critical when quantifying combustion species using PLIF over different operation modes. This is the only laser that can do sub 10 ns pulses with all the different specifications. We know of no instruments of equivalent scientific value to the foreign instruments described below, for such purposes as this is intended to be used, that was being manufactured in the United States at the time of its order.

Dated: March 23, 2011.
Gregory W. Campbell,
Director, Subsidies Enforcement Office, Import Administration.

[FR Doc. 2011-7493 Filed 3-29-11; 8:45 am]

BILLING CODE 3510-DS-P